DEPARTMENT OF LABOR

Employment and Training Administration

[TA-W-62,875]

Bolton Metal Products Company, Bellefonte, PA; Notice of Affirmative Determination Regarding Application for Reconsideration

By application dated April 11, 2008, a petitioner requested administrative reconsideration of the negative determination regarding workers' eligibility to apply for Trade Adjustment Assistance (TAA) and Alternative Trade Adjustment Assistance (ATAA) applicable to workers and former workers of the subject firm. The determination was issued on March 19, 2008. The Notice of determination will soon be published in the Federal Register.

The initial investigation resulted in a negative determination based on the finding that imports of brass rod, wire, and low melt alloys did not contribute importantly to worker separations at the subject firm and no shift of production to a foreign source occurred.

In the request for reconsideration, the petitioner provided additional information regarding the subject firm's customers and requested the Department of Labor conduct further investigation to determine whether workers of the subject firm are eligible for TAA on the basis of the secondary impact.

The Department has carefully reviewed the requests for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 21st day of April 2008.
Elliott S. Kushner,
Certifying Officer, Division of Trade Adjustment Assistance.

[FR Doc. E8-9100 Filed 4-24-08; 8:45 am]

BILLING CODE 4510-FN-P